FEDERAL COMMUNICATIONS COMMISSION

47 CFR Part 64

[CC Docket No. 96-146; RM-8783; ENF-95-20; FCC 04-162]

Policies and Rules Governing Interstate Pay-Per-Call and Other Information Services, and Toll-free Number Usage; Truth-in-Billing and Billing Format

AGENCY: Federal Communications Commission.

ACTION: Final rules.

SUMMARY: In this document, the Commission closes CC Docket 96-146, a rulemaking initiated in 1996 to implement portions of the Telecommunications Act of 1996 (1996 Act) governing pay-per-call and related information services. This docket was opened specifically for the purpose of implementing section 228 as amended by the 1996 Act. In 1996, the Commission released an Order and Notice of Proposed Rulemaking that adopted new rules, incorporating much of the statute verbatim, and completed implementation of the new provision of section 228. In the years since the rules took effect, the shape of the pay-per-call industry, technology in general, and regulatory perspectives have changed considerably. For reasons of administrative efficiency, the Commission now closes that docket. Furthermore, in this document, the Commission denies a related application for review, dismisses a petition to initiate a rulemaking, and corrects a word error in the existing rules.

DATES: Effective July 16, 2004.

ADDRESSES: Federal Communications Commission, 445 12th Street, SW., Washington, DC 20554.

FOR FURTHER INFORMATION CONTACT: Ruth Yodaiken, of the Consumer & Government Affairs Bureau at (202) 418-2512 (voice), or e-mail ruth.yodaiken@fcc.gov.

SUPPLEMENTARY INFORMATION: This is a summary of the Commission's Memorandum Opinion and Order (MO&O), Policies and Rules Governing Interstate Pay-Per-Call and Other Information Services Pursuant to the Telecommunications Act of 1996, Policies and Rules Implementing the Telephone Disclosure and Dispute Resolution Act, Florida Public Service Commission Petition to Initiate Rulemaking to Adopt Additional Safeguards; Application for Review of Advisory Ruling Regarding Directly Dialed Calls to International Information Services, CC Docket No. 96-146, RM 8783, ENF-95-20; FCC 04-162, adopted July 1, 2004, and released July 16, 2004. This MO&O document does not contain new or modified information collection requirements subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4). On July 16, 2004, the Commission also released a Notice of Proposed Rulemaking (NPRM), Policies and Rules Governing Interstate Pay-Per-Call and Other Information Services Pursuant to the Telecommunications Act of 1996; Policies and Rules Governing Interstate Pay-Per-Call and Other Information Services, and Toll-free Number Usage; Truth-in-Billing and Billing Format, CC Docket Nos. 96-146 and 98-170, CG Docket No. 04-244; FCC 04-162, that contains proposed information requirements. The full text of this document is available on the Commission's website Electronic Comment Filing System and for public inspection during regular business hours in the FCC Reference Center, Room CY-A257, 445 12th Street, SW., Washington, DC 20554. To request materials in accessible formats for people with disabilities (Braille, large print, electronic files, audio format), send an e-mail to fcc504@fcc.gov, or call the Consumer & Governmental Affairs Bureau at (202) 418-0530 (voice) or (202) 418-0432 (TTY). This MO&O can also be downloaded in Word and Portable Document Format (PDF) at http://www.fcc.gov/cgb/policy/paypercall.html.

Synopsis

A. WKP Application for Review

In 1995, WKP Communications, Inc. (WKP) filed an Application for Review of a staff interpretation given in the Marlowe Letter. (Direct Dialed Calls to International Information Services, File No. ENF 95-20 (October 5, 1995) (WKP Application for Review). See also WKP Communications Files Application for Review of Common Carrier Bureau Staff Ruling Regarding Provisions of Interstate Information Services at Tariffed Rates, 10 FCC Rcd 11518 (rel. October 24, 1995).) The letter gave an opinion of how, among other things, § 201(b) and 228 would apply to several hypothetical scenarios where international long distance service providers would be used to transmit information and entertainment services. (Marlowe Letter, 10 FCC Rcd 10945.) The scenarios described involved the transmission of calls by an authorized carrier at a tariffed rate through 10XXX dialing sequence, a 500 number, and a 700 number. Both the Marlowe Letter and WKP's Application for Review were drafted before the 1996 Act had gone into effect, and there was still an exemption for tariffed services under § 228. (The exemption for tariffed services was removed by the 1996 Act.) In addition to Congress' removal of the tariffed exemption, the Commission has spoken twice on the issue of revenue sharing in general, first in the 1996 Order & NPRM and more recently in the chat-line orders discussed above. Since filing its initial Application for Review, WKP has done nothing to update its Application for Review. Further, WKP has apparently ceased acting as a common carrier and Commission staff has been unsuccessful in reaching WKP to determine whether it wanted to pursue the Application for Review. (Since 1998, all common carriers have been required to file 499A forms, but there is no record of WKP having done so. The law firm that filed the petition on behalf of WKP provided Commission staff with the last known address of WKP, and a letter sent to that address in September 2003 was returned as undeliverable.) The Commission, therefore, dismisses this application as moot. We note that some of the general topics raised in the Application for Review, which went well beyond the scope of the letter, are raised in the NPRM.

B. Florida Public Service Petition for Rulemaking

In 1995, the Florida Public Service Commission (FPSC) filed a Petition for Rulemaking with the Commission proposing, among other things, the establishment of a service to allow subscribers to have bill blocking, which would not be dependant upon the use of 900 numbers. (Policies and Rules Implementing the Telephone Disclosure and Dispute Resolution Act, Florida Public Service Commission Petition to Initiate Rulemaking to Adopt Additional Safeguards, RM-8783, filed December 8, 1995 (FPSC Petition). See also Office of Public Affairs, Reference Operations Division, Petitions for Rulemaking File, Report No. 2127, Public Notice, April 1, 1996; Florida Public Service Commission 1996 Reply, RM-8783; and Florida Public Service Commission 1996 Comment.) In January 2004, the FPSC filed a notice withdrawing their petition. (Policies and Rules Implementing the Telephone Disclosure and Dispute Resolution Act, Florida Public Service Commission Notice of Withdrawal of Petition to Initiate Rulemaking, filed January 26, 2004.) Therefore, we dismiss the Petition for Rulemaking.

C. Closing CC Docket 96-146

Since the Commission released the 1996 Order & NPRM in CC Docket No. 96-146, the audiotext information services market, as well as related regulatory environment and technology have undergone significant changes. As noted earlier, the number of assigned 900 numbers, dropped from a peak of 447 in 1999 to 206 by the end of 2002 and many are no longer used by end users. As noted above, many carriers decline to provide transport or bill for 900 numbers. Consumers complain about different problems, as discussed above. Regulatory changes included detariffing, slamming verification, and adjudication of formal complaints by the FCC and outside agencies. Instant credit and electronic transactions are now common in e-commerce transactions.

As the comment cycle for the 1996 Order & NPRM was completed before the rules actually took effect, the comments from 1996 provided no evidence of the impact of those rules. CGB's effort to refresh the record in this docket in 2003 was not met with extensive comment, nor a full range of views. Only 15 parties, most in the pay-per-call industry, submitted comments, replies, or ex parte filings, contrasting to the more varied 38 parties that had filed comments in response to the 1996 Order & NPRM. Several of the parties argued that the record was too stale to reflect accurately the current market and regulatory environment.

It is clear that the subject of this proceeding has changed significantly from when the 1996 Order & NPRM was released and when most comments were filed. While there are items in the comments and proposals that are still relevant, it would be impossible without further comment and review to ascertain which material is dated and which material is still viable. In the interest of administrative efficiency, therefore, we now close and terminate CC Docket No. 96-146. To the extent that parties believe portions of their 1996 comments are still relevant, parties should resubmit the relevant parts of such comments, if any, in this new docket. Parties refiling portions of comments are asked to do so with particularity. (Parties should only refile the particular pages from their comments that they believe to still be relevant.) Comments filed in 2003 in response to the Notice need not be filed again, as they will be included in this new rulemaking.

D. Correction of Word Error

The rules as adopted in 1996 contain a minor error in wording which is being corrected by this MO&O. In § 64.154(c)(2)(vi), the word “up” was omitted. We correct this sentence to read: “Clearly states that the caller can hang up at or before the end of the introductory message without incurring any charge whatsoever.”

Ordering Clauses

Accordingly, pursuant to the authority contained in sections 1-4, 201(b), 228 and 303(r) of the Communications Act of 1934, as amended, 47 U.S.C. 151-154, 201(b), 228 and 303(r); and 47 CFR 64.1501-1515 of the Commission's rules, this Memorandum Opinion and Order is adopted.

The proceedings in CC Docket No. 96-146 are terminated, and the docket is closed.

The Petition for Rulemaking filed by the Florida Public Service Commission on December 8, 1995; and the Application for Review filed by WKP Communications, Inc., on October 5, 1995 are dismissed. 47 CFR 64.1504 (c) is amended as set forth in the Final Rules.

The Commission's Consumer & Governmental Affairs Bureau, Reference Information Center, shall send a copy of this Memorandum Opinion and Order to the Chief Counsel for Advocacy of the Small Business Administration.

Federal Communications Commission.
Marlene H. Dortch,
Secretary.

Rule Change

For the reasons discussed in the preamble, the Federal Communications Commission is amending 47 CFR part 64 as follows:

PART 64—MISCELLANEOUS RULES RELATING TO COMMON CARRIERS

1. The authority citation for part 64 continues to read as follows:

Authority: 47 U.S.C. 154, 254(k); secs. 403(b) (2)(B), (c), Public Law 104-104, 110 Stat. 56. Interpret or apply 47 U.S.C. 201, 218, 225, 226, 228, and 254(k) unless otherwise noted.

2. Section 64.1504 is amended by revising paragraph (c)(2)(vi) to read as follows:

§ 64.1504 Restrictions on the use of toll-free numbers.

* * * * *

(c) * * *

(2) * * *

(vi) Clearly states that the caller can hang up at or before the end of the introductory message without incurring any charge whatsoever.

* * * * *

[FR Doc. 04-23191 Filed 10-14-04; 8:45 am]

BILLING CODE 6712-01-P